OFFICE OF SCIENCE AND TECHNOLOGY POLICY

Request for Information (RFI) on Strengthening Community Health Through Technology; Correction

AGENCY: White House Office of Science and Technology Policy (OSTP).

ACTION: Notice; correction.

SUMMARY: OSTP published a document in the Federal Register of January 5, 2022, requesting input on how digital health technologies are used, or could be used in the future, to transform community health, individual wellness, and health equity. The document closing date was stated as February 28, 2022. We are extending the closing date to March 31, 2022 to allow more time for input.

FOR FURTHER INFORMATION CONTACT: Jacqueline Ward at connectedhealth@ostp.eop.gov or by voicemail at 202-456-3030.

SUPPLEMENTARY INFORMATION:

Correction

In the Federal Register of January 5, 2022, in FR Doc. 2021-28193, on page 492, in the second column, correct the DATES caption to read:

DATES: Interested persons and organizations are invited to submit comments on or before 5:00 p.m. ET on March 31, 2022.

Dated: January 31, 2022.
Stacy Murphy,
Operations Manager.

[FR Doc. 2022-02289 Filed 2-3-22; 8:45 am]

BILLING CODE 3270-F1-P